DEPARTMENT OF HOMELAND SECURITY

Coast Guard

33 CFR Part 117

[CGD01-03-096]

RIN 1625-AA09

Drawbridge Operation Regulations: Rahway River, NJ

AGENCY: Coast Guard, DHS.

ACTION: Final rule.

SUMMARY: The Coast Guard has changed the drawbridge operation regulations that govern the Conrail Bridge, at mile 2.0, across the Rahway River at Linden, New Jersey. This change to the drawbridge operation regulations will allow the bridge to be operated from a remote location. This action is expected to allow the bridge owner to operate the bridge from a remote location while still providing for the reasonable needs of navigation.

DATES: This rule is effective March 29, 2004.

ADDRESSES: Comments and material received from the public, as well as documents indicated in this preamble as being available in the docket, are part of docket (CGD01-03-096) and are available for inspection or copying at the First Coast Guard District, Bridge Branch Office, One South Street, New York, New York, 10004, between 7 a.m. and 3 p.m., Monday through Friday, except Federal holidays.

FOR FURTHER INFORMATION CONTACT: Mr. Joe Arca, Project Officer, First Coast Guard District, (212) 668-7069.

SUPPLEMENTARY INFORMATION:

Regulatory Information

On October 14, 2003, we published a notice of proposed rulemaking (NPRM) entitled Drawbridge Operation Regulations; Rahway River, New Jersey, in the Federal Register (68 FR 59143). We received one comment letter in response to the notice of proposed rulemaking. No public hearing was requested and none was held.

Background and Purpose

The Conrail Bridge has a vertical clearance of 6 feet at mean high water and 11 feet at mean low water in the closed position.

The existing drawbridge operation regulations listed at 33 CFR 117.743, require the bridge to open on signal from April 1 through November 30, from 6 a.m. to 10 p.m. At all other times, the bridge shall open on signal if at least a four-hour notice is given.

The Conrail Bridge across the Rahway River is navigated predominately by small recreational vessels April through November.

The owner of the bridge, Consolidated Rail Corporation (Conrail), requested a change to the drawbridge operation regulations to allow the bridge to be operated from a remote location by a bridge/train dispatcher located at the Conrail Dispatch Office at Mount Laurel, New Jersey. The bridge will still operate the same; except, it will be done from a remote location. The on-scene bridge tender will be eliminated by this rulemaking.

It is expected that this final rule will relieve the bridge owner of the burden of crewing the bridge at all times while still meeting the reasonable needs of navigation.

Discussion of Comments and Changes

The Coast Guard received one comment letter in response to the notice of proposed rulemaking. The comment letter was in objection to the proposed rule change stating that not having a drawtender in attendance at the bridge would not allow for the timely discovery of any conditions that may cause the bridge to become inoperative.

The bridge owner is required under 33 CFR 117.7 to keep the bridge in good operable condition at all times and to test the bridge operation at sufficient intervals to assure satisfactory operation. The Coast Guard believes that it is not necessary to keep the bridge crewed at all times and that the bridge owner's preventative maintenance schedule is sufficient to assure reliable operation of the bridge. As a result of the above, no changes have been made to this final rule.

Regulatory Evaluation

This rule is not a “significant regulatory action” under section 3(f) of Executive Order 12866, Regulatory Planning and Review, and does not require an assessment of potential costs and benefits under section 6(a)(3), of that Order. The Office of Management and Budget has not reviewed it under that Order. It is not “significant” under the regulatory policies and procedures of the Department of Homeland Security (DHS).

This conclusion is based on the fact that the bridge will continue to open for vessel traffic at all times, except for the passage of rail traffic.

Small Entities

Under the Regulatory Flexibility Act (5 U.S.C. 601-612), we considered whether this rule would have a significant economic impact on a substantial number of small entities. The term “small entities” comprises small businesses, not-for profit organizations that are independently owned and operated and are not dominant in their fields, and governmental jurisdictions with populations less than 50,000.

The Coast Guard certifies under 5 U.S.C. 605(b), that this rule will not have a significant economic impact on a substantial number of small entities.

This conclusion is based on the fact that the bridge will continue to open for vessel traffic at all times, except for the passage of rail traffic.

Assistance for Small Entities

Under section 213(a) of the Small Business Regulatory Enforcement Fairness Act of 1996 (Pub. L. 104-121), we offered to assist small entities in understanding the rule so that they could better evaluate its effects on them and participate in the rulemaking process.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not concern an environmental risk to health or risk to safety that may disproportionately affect children.

Indian Tribal Governments

This final rule does not have tribal implications under Executive Order 13175, Consultation and Coordination with Indian Tribal Governments, because it does not have substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We have analyzed this final rule under Commandant Instruction M16475.1D, which guides the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraph (32)(e), of the Instruction, from further environmental documentation. It has been determined that this final rule does not significantly impact the environment.

List of Subjects in 33 CFR Part 117

Bridges.

Regulations

For the reasons set out in the preamble, the Coast Guard amends 33 CFR part 117 as follows:

PART 117—DRAWBRIDGE OPERATION REGULATIONS

1. The authority citation for part 117 continues to read as follows:

Authority: 33 U.S.C. 499; Department of Homeland Security Delegation No. 0170; 33 CFR 1.05-1(g); section 117.255 also issued under the authority of Pub. L. 102-587, 106 Stat. 5039.

2. Section 117.743 is revised to read as follows:

§ 117.743 Rahway River.

The draw of the Conrail Bridge, mile 2.0, across the Rahway River, at Linden, New Jersey, shall operate as follows:

(a) The draw shall remain in the full open position at all times, and shall only be closed for the passage of rail traffic or the performance of maintenance authorized in accordance with subpart A of this part.

(b) The draw shall be remotely operated by a bridge/train dispatcher located at the Conrail Dispatch Office at Mount Laurel, New Jersey.

(c) A marine traffic light system shall be maintained at the bridge and display flashing green lights to indicate that vessels may pass through the bridge, and flashing red lights anytime the bridge is not in the full open position.

(d) An infrared sensor system shall be maintained at the bridge to determine that no conflict with vessel traffic exists while the bridge is closing.

(e) Before the bridge may be closed from the remote location, an on-site train crewmember shall observe the waterway for any vessel traffic. All approaching vessels shall be allowed to pass before the bridge may close. The on-scene train crewmember shall then communicate with the bridge/train dispatcher at the Conrail Dispatch Office, at Mount Laurel, either by radio or telephone, to request that the bridge be closed.

(f) While the bridge is moving from the full open to full closed position, the bridge/train dispatcher shall maintain constant surveillance of the navigational channel at the bridge using the infrared sensor system.

(g) If the infrared sensors detect a vessel or other obstruction approaching or under the bridge before the draw is fully lowered and locked, the closing sequence shall be stopped, automatically, and the draw shall be raised to its full open position until the channel is clear.

(h) During the downward bridge closing movement, the marine traffic light system located at the bridge will change from flashing green to flashing red, the public address system shall announce that the bridge shall be closing, and the horn shall sound two times, pause 10 seconds, then repeat two horn blasts until the bridge is seated and fully locked down.

(i) When all rail traffic has cleared the bridge, the bridge/train dispatcher shall sound the horn five-times to signal that the draw is about to open.

(j) In the event of a failure, or obstruction to the infrared sensor system, the bridge shall immediately be returned to the full open position until the problem is corrected.

(k) In the event of a loss of communication between the on-site personnel and the bridge/train dispatcher, the bridge shall immediately be returned to the full open position until the problem is corrected.

(l) Should the draw become inoperable from the remote site while the bridge is in the closed position, a bridge tender, maintenance personnel, or engineer shall be deployed to be on scene within one hour from the time the draw becomes inoperable until the bridge can be returned to the full open position.

(m) Trains shall be controlled so that any delay in opening of the draw shall not exceed ten minutes after a train has crossed the bridge; except, as provided in 33 CFR 117.31(b). However, if a train moving toward the bridge has crossed the home signal for the bridge, the train may continue across the bridge and must clear the bridge interlocks before stopping.

Dated: February 13, 2004.
J.L. Grenier,
Captain, U.S. Coast Guard, Acting Commander, First Coast Guard District.

[FR Doc. 04-4207 Filed 2-25-04; 8:45 am]

BILLING CODE 4910-15-P